DEPARTMENT OF ENERGY

Federal Energy Regulatory Commission

[Project No. 10200-014]

Congdon Pond Hydro, LLC; Notice of Intent To Terminate Exemption (5 Mw or Less) and Soliciting Comments, Protests, or Motions To Intervene

Take notice that the following hydroelectric proceeding has been initiated by the Commission:

a. Type of Proceeding: Termination of exemption by implied surrender.

b. Project No.: 10200-014.

c. Date Initiated: May 4, 2015.

d. Exemptee: Congdon Pond Hydro, LLC.

e. Name and Location of Project: The Congdon Dam Hydroelectric Project is located on the Oxoboxo Brook in New London County, Connecticut.

f. Filed Pursuant to: 18 CFR 4.106 (Standard Article 1).

g. Exemptee Contact Information: Mr. John Morte, President and Treasurer, Congdon Pond Hydro, LLC., 63 Hayward Street, Milford, MA (508) 333-6743.

h. FERC Contact: Jennifer Polardino, (202) 502-6437, Jennifer.Polardino@ferc.gov.

i. Deadline for filing comments, protests, or motions to intervene is 30 days from the issuance of this notice by the Commission. Please file your submittal electronically via the Internet (eFiling) in lieu of paper. Please refer to the instructions on the Commission's Web site under http://www.ferc.gov/docs-filing/efiling.asp and filing instructions in the Commission's Regulations at 18 CFR 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-10200-014) on any documents or motions filed. The Commission strongly encourages electronic filings; otherwise, you should submit an original and seven copies of any submittal to the following address: The Secretary, Federal Energy Regulatory Commission, Mail Code: DHAC, PJ-12, 888 First Street NE., Washington, DC 20426.

j. Description of Project Facilities: (1) A 35-foot-high by 170-foot-long dam, with 7-inch-high flashboards; (2) a 6.5-acre reservoir with a storage capacity of 130 acre-feet; (3) two outlet works with an overall length of 23 feet; (4) a 5-foot-diameter by 70-foot-long penstock; (5) a powerhouse containing one 60-kilowatts generating unit; (6) a tailrace; and (7) appurtenant facilities.

k. Description of Proceeding: The exemptee is in violation of Standard Article 1 of its exemption, which was granted on December 9, 1987 (41 FERC ¶ 62,224). Article 1 provides, among other things, that the Commission may terminate an exemption if any term or condition of the exemption is violated.

Commission records show that Congdon Dam Hydroelectric Project has been non-operational since May 2002. After several years of correspondence regarding restoring project operation, the exemptee has become non-responsive. The exemptee most recently filed with the Commission on September 18, 2014 a plan and schedule to restore project operation. In its filing, the exemptee also requested to extend the date to restore project operation to October 1, 2015. By letter dated October 8, 2014, the Commission acknowledged the filing and required the exemptee to file a status update by January 15, 2015 to show continued progress towards restoring project operation. The filing should also include an application to amend the exemption to reflect the new transmission line alignment. The exemptee did not do so. By letter dated April 9, 2015, the Commission again required the exemptee to file by April 24, 2014, a plan and schedule to restore operational status, and an application to amend the exemption if the exemptee still intends to change the transmission line alignment. The exemptee was notified that failure to do so would result in an implied surrender of the project exemption. To date, the exemptee has not filed a response and the project remains inoperable.

l. This notice is available for review and reproduction at the Commission in the Public Reference Room, Room 2A, 888 First Street NE., Washington, DC 20426. The filing may also be viewed on the Commission's Web site at http://www.ferc.gov/docs-filing/elibrary.asp. Enter the Docket number (P-10200-014) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212, .214. In determining the appropriate action to take, the Commission will consider all protests or other comments filed, but only those who file a motion to intervene in accordance with the Commission's Rules may become a party to the proceeding. Any comments, protests, or motions to intervene must be received on or before the specified comment date for the particular proceeding.

o. Filing and Service of Responsive Documents—Any filing must (1) bear in all capital letters the title “COMMENTS”, “PROTEST,” or “MOTIONS TO INTERVENE”, as applicable; (2) set forth in the heading the project number of the proceeding to which the filing responds; (3) furnish the name, address, and telephone number of the person commenting, protesting, or intervening; and (4) otherwise comply with the requirements of 18 CFR 385.2001 through 385.2005. All comments or protests must set forth their evidentiary basis. All comments, protests, or motions to intervene should relate to project works which are the subject of the termination of exemption. A copy of any protest or motion to intervene must be served on each representative of the exemptee specified in item “f” above. A copy of all other filings in reference to this notice must be accompanied by proof of service on all persons listed in the service list prepared by the Commission in this proceeding in accordance with 18 CFR 4.34(b) and 385.2010.

p. Agency Comments—Federal, state, and local agencies are invited to file comments on the described proceeding. If any agency does not file comments within the time specified for filing comments, it will be presumed to have no comments.

Dated: May 4, 2015.
Kimberly D. Bose,
Secretary.

[FR Doc. 2015-11283 Filed 5-8-15; 8:45 am]

BILLING CODE 6717-01-P